DEPARTMENT OF THE INTERIOR

National Park Service

[NPS-WASO-NRNHL-18680; PPWOCRADI0, PCU00RP14.R50000]

National Register of Historic Places; Notification of Pending Nominations and Related Actions

Nominations for the following properties being considered for listing or related actions in the National Register were received by the National Park Service before June 20, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 22, 2015. Before including your address, phone number, email address, or other personal identifying information in your comment, you should be aware that your entire comment—including your personal identifying information—may be made publicly available at any time. While you can ask us in your comment to withhold your personal identifying information from public review, we cannot guarantee that we will be able to do so.

Dated: June 26, 2015.
J. Paul Loether,
Chief, National Register of Historic Places/National Historic Landmarks Program.

ARKANSAS

Polk County

Shady Lake Recreation Area Historic District, FS 38, Athens, 15000480

COLORADO

Chaffee County

Comanche Drive-In, 17063 Cty. Rd. 106, Buena Vista, 15000481

INDIANA

St. Joseph County Federal Building, (Downtown South Bend Historic MRA) 204 S. Main, South Bend, 15000482

IOWA

Clinton County

Washington Junior High School and Jefferson Grade School, 751 2nd Ave. S., Clinton, 15000483

MONTANA

Flathead County

Swan River Bridge, (Montana's Historic Steel Truss Bridges) Bridge St., Bigfork, 15000484

Park County

Convict Grade Historic District, 1 mi. E. of jct. with US 89, Springdale, 15000485

Gardiner Jail, 2nd St., Gardiner, 15000486

NEBRASKA

Colfax County

Odd Fellows—Top Notch Building, 302 E. 11th St., Schyler, 15000487

Gage County

Johnson Cabin Museum, Blue Springs Park, Blue Springs, 15000488

NEW JERSEY

Essex County

Maplewood Memorial Park, Bounded by Oakland & Dunnell Rds., Valley & Baker Sts., Maplewood, 15000489

Morris County

Mount Olive Village Historic District, Mount Olive & Flanders-Drakestown Rds., Mount Olive, 15000490

NEW MEXICO

Bernalillo County

Hubbell, James Lawrence and Juliana Gutierrez y Chavez, House, (Camino Real in New Mexico, AD 1598-1881 MPS) 6029 Isleta Blvd. SW., Albuquerque, 15000491

Cibola County

Grants—Milan Flight Service Station, 1116 N. Dale Carnutte Rd., Grants, 15000492

Los Alamos County

United States Post Office—Los Alamos, New Mexico, 199 Central Park Sq., Los Alamos, 15000493

Santa Fe County

Delgrado Street Bridge, Delgrado St. over the Santa Fe R., Santa Fe, 15000494

K'uuyemugeh,

Address Restricted, Cuyamungue, 15000496

St. John's College—Santa Fe, New Mexico, 1160 Camino Cruz Blanca, Santa Fe, 15000495

RHODE ISLAND

Providence County

Edgewood Historic District—Anstis Greene Estate Plats, (Edgewood Neighborhood, Cranston, R.I. MPS) Anstis, Broad & Swift Sts., Birchfield & Kensington Rds., Bluff, King, Marion & Rosewood Aves., Narragansett Blvd., Cranston, 15000497

WASHINGTON

Jefferson County

Tamanowas Rock, Address Restricted, Chimacum, 15000498

King County

Montlake Historic District, Roughly bounded by Lake Washington Ship Canal, Interlaken Park, 15th Ave. E. & Washington Park Arboretum, Seattle, 15000499

Thurston County

Schmidt, Trueman and Virginia, House, 2832 Maringo Rd. SE., Olympia, 15000500

Washington State Library, 415 15th Ave. SE., Olympia, 15000501

WISCONSIN

Dane County

Stevens, Breese, Municipal Athletic Field, 917 E. Mifflin St., Madison, 15000502

Jefferson County

Clyman Street Historic District, Roughly bounded by Western Ave,. Clyman, S. 10th & S. 5th Sts., Watertown, 15000503

Rock County

Merchant Row Historic District, 212, 216, 218-220, 228-230 Merchant Row & 553, 537, 541 Vernal Ave., Milton, 15000504

Parkview Historic District, 644-655 College St. & 247-319 Parkview Dr., Milton, 15000505

In the interest of preservation the comment period has been extended to July 16, 2015 for the following resource:

ARIZONA

Pinal County

Chi'chil Bildagoteel Historic District, Address Restricted, Kearney, 15000358

A request for removal has been made for the following resource:

NEW YORK

Dutchess County

Sands, Robert, Estate, (Rhinebeck Town MRA (AD)) 1.5 mi. E of Rhinebeck at NY 308 and NY 9, Rhinebeck, 75001183

[FR Doc. 2015-16567 Filed 7-6-15; 8:45 am]

BILLING CODE 4312-51-P